FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202)-523-5793 or tradeanalysis@fmc.gov.

Agreement No.: 201234-007.

Agreement Name: Agreement by Ocean Common Carriers to Participate on the Exchange Board.

Parties: CMA CGM SA; Hapag-Lloyd AG; COSCO Shipping Lines Co., Ltd; COSCO Shipping Co., Ltd.; HMM Company Limited; Maersk A/S; and Ocean Network Express Pte. Ltd. (ONE).

Filing Party: Ashley Craig; Venable LLP.

Synopsis: The Amendment would authorize the Parties to participate in the New York Shipping Exchange, Inc. (“NYSHEX”) index governing board, which shall discuss and agree on all aspects of the development, implementation, modification and auditing of container freight indices, as produced by NYSHEX. The Amendment would also remove COSCO Shipping Co., Ltd. and COSCO Shipping Lines Co., Ltd. and add Ocean Network Express Pte. Ltd. and ZIM Integrated Shipping Services Ltd. as Parties to the Agreement.

Proposed Effective Date: 03/12/2025.

Location: https://www2.fmc.gov/FMC.Agreements.Web/Public/AgreementHistory/2064.

Agreement No.: 201423-001.

Agreement Name: ONE to HMM AP1 Space Charter Agreement.

Parties: Hyundai Merchant Marine Co. Ltd.; Ocean Network Express Pte. Ltd.

Filing Party: Joshua Stein, Cozen O'Connor.

Synopsis: The Amendment revises Article 5.1(a) to increase the volume of TEUs sold from ONE to HMM from 250 to 850. Additionally, Article 8 has been revised to show an indefinite term arrangement.

Location: https://www2.fmc.gov/FMC.Agreements.Web/Public/AgreementHistory/86558.

Agreement No.: 201449.

Agreement Name: ONE to YML AT4 Slot Charter Agreement.

Parties: Ocean Network Express Pte. Ltd.; Yang Ming Joint Service Agreement.

Filing Party: Joshua Stein, Cozen O'Connor.

Synopsis: The agreement authorizes ONE to charter space to Yang Ming in the trades between ports in Italy and Spain on the one hand and ports on the U.S. East Coast/Gulf on the other hand.

Location: https://www2.fmc.gov/FMC.Agreements.Web/Public/AgreementHistory/88599.

Agreement No.: 201450.

Agreement Name: ONE to YML AT1, AT2 Slot Charter Agreement.

Parties: Ocean Network Express Pte. Ltd.; Yang Ming Joint Service Agreement.

Filing Party: Joshua Stein, Cozen O'Connor.

Synopsis: The agreement authorizes ONE to charter space to Yang Ming in the trades between ports in United Kingdom, Germany, France, The Netherlands, and Belgium on the one hand and ports on the U.S. East Coast/Gulf on the other hand.

Location: https://www2.fmc.gov/FMC.Agreements.Web/Public/AgreementHistory/88600.

Dated: January 31, 2025.
Alanna Beck,
Federal Register Alternate Liaison Officer.

[FR Doc. 2025-02246 Filed 2-4-25; 8:45 am]

BILLING CODE 6730-02-P